NATIONAL AERONAUTICS AND SPACE ADMINISTRATION

48 CFR Parts 1801, 1843 and 1852

RIN 2700-AE35

NASA Federal Acquisition Regulation Supplement: Remove NASA FAR Supplement Clause Engineering Change Proposals (2016-N030)

AGENCY: National Aeronautics and Space Administration.

ACTION: Final rule.

SUMMARY: NASA is issuing a final rule amending the NASA Federal Acquisition Regulation Supplement (NFS) to remove the Engineering Change Proposals (ECPs) basic clause with its Alternate I & II and associated information collection from the NFS.

DATES: Effective: November 30, 2016.

FOR FURTHER INFORMATION CONTACT: Andrew O'Rourke, telephone 202-358-4560.

SUPPLEMENTARY INFORMATION:

I. Background

NASA published a proposed rule in the Federal Register at 81 FR 54783 on August 17, 2016, to amend the NFS to remove contract clause 1852.243-70, Engineering Change Proposals (ECPs) with its Alternate I & II and associated information collection from the NFS. Six comments were received in response to the proposed rule.

II. Discussion and Analysis

NASA reviewed the public comments received in the development of the final rule. The six comments received were advertisements for personal services from the same respondent and completely unrelated to the purpose of this rule. Therefore, no change was made to the final rule as a result of the public comments received.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

A final regulatory flexibility analysis has been prepared consistent with the Regulatory Flexibility Act, 5 U.S.C. 601, et seq., and is summarized as follows:

The National Aeronautics and Space Administration (NASA) is issuing a final rule to amend the NASA FAR Supplement (NFS) to remove NFS clause 1852.243-70, Engineering Change Proposals (ECPs) basic clause with its Alternate I & II and associated information collection from the NFS because the NFS clause is no longer used in procurements and is duplicative to FAR requirements. NASA conducted a retrospective review of its regulations and determined NFS clause 1852.243-70 should be removed along with the corresponding information collection requirement OMB Control No. 2700—054.

No changes were made to the final rule as a result of public comments received. Comments received in response to the proposed rule were advertisements for personal services and deemed out of scope.

NASA does not expect this final rule to have a significant economic impact on a substantial number of small entities within the meaning of the Regulatory Flexibility Act, 5 U.S.C. 601 et seq., because we are removing a NFS clause and its associated information collection requirements for contractors. By removing this clause, the information collection burden on contractors will be reduced, thus providing all entities, both large and small, with a positive benefit.

This rule does not include any new reporting, recordkeeping, or other compliance requirements for small businesses. There are no significant alternatives that could further minimize the already minimal impact on businesses, small or large.

V. Paperwork Reduction Act

The rule contains information collection requirements that require the approval of the OMB under the Paperwork Reduction Act (44 U.S.C. chapter 35); however, the changes to the NFS removes the information collection requirements previously approved under OMB Control Number 2700-0054, entitled NFS 1843 Contract Modifications for Engineering Change Proposals (ECP).

List of Subjects in 48 CFR Parts 1801, 1843, and 1852

Government procurement.

Manuel Quinones,
NASA FAR Supplement Manager.

Accordingly, 48 CFR parts 1801, 1843, and 1852 are amended as follows:

1. The authority citation for parts 1801, 1843 and 1852 continues to read as follows:

Authority: 51 U.S.C. 20113(a) and 48 CFR chapter 1.

PART 1801—FEDERAL ACQUISITION REGULATIONS SYSTEM

2. Revise section 1801.106 to read as follows:

1801.106 OMB approval under the Paperwork Reduction Act.

The following OMB control numbers apply:

NFS Segment | OMB control No.
1823 | 2700-0089
1827 | 2700-0052
1852.223-70 | 2700-0160
NF 533 | 2700-0003
NF 1018 | 2700-0017

PART 1843—CONTRACT MODIFICATIONS

3. Revise section 1843.205-70 to read as follows:

1843.205-70 NASA contract clauses.

The contracting officer may insert a clause substantially as stated at 1852.243-72, Equitable Adjustments, in solicitations and contracts for—

(a) Dismantling, demolishing, or removing improvements; or

(b) Construction, when the contract amount is expected to exceed the simplified acquisition threshold and a fixed-price contract is contemplated.

PART 1852—SOLICITATION PROVISIONS AND CONTRACT CLAUSES

1852.243-70 [Removed and Reserved]

4. Section 1852.243-70 is removed and reserved.

1852.243-72 [Amended]

5. Amend section 1852.243-72 by removing “1843.205-70(b)” and adding “1843.205-70” in its place.

[FR Doc. 2016-26174 Filed 10-28-16; 8:45 am]

BILLING CODE 7510-13-P